DEPARTMENT OF HEALTH AND HUMAN SERVICES

Health Resources and Services Administration

Agency Information Collection Activities: Submission to OMB for Review and Approval; Public Comment Request; HRSA Ryan White HIV/AIDS Program HIV Quality Measures Module, OMB No. 0906-0022—Revision

AGENCY: Health Resources and Services Administration (HRSA), Department of Health and Human Services (HHS).

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than December 19, 2025.

ADDRESSES: Written comments and recommendations for the proposed information collection should be sent within 30 days of publication of this notice to www.reginfo.gov/public/do/PRAMain. Find this information collection by selecting “Currently under Review—Open for Public Comments” or by using the search function.

FOR FURTHER INFORMATION CONTACT: To request a copy of the clearance requests submitted to OMB for review, email Samantha Miller, the HRSA Information Collection Clearance Officer, at paperwork@hrsa.gov or call (301) 443-3983.

SUPPLEMENTARY INFORMATION:

Information Collection Request Title: HRSA Ryan White HIV/AIDS Program HIV Quality Measures Module, OMB No. 0906-0022—Revision.

Abstract: HRSA's Ryan White HIV/AIDS Program (RWHAP) funds and coordinates with cities, states, and local clinics/community-based organizations to deliver efficient and effective HIV care, treatment, and support to low-income people with HIV. Since 1990, RWHAP has developed a comprehensive system of safety net providers who deliver high-quality direct health care and support services to over half a million people with HIV—more than 50 percent of all people with diagnosed HIV in the United States.

RWHAP Parts A, B, C, and D recipients and subrecipients must follow statutory requirements for the establishment of clinical quality management programs to assess the extent to which their HIV services are consistent with the most recent HHS Clinical Treatment guidelines and to develop strategies to improve access to quality HIV services. In support of these requirements, HRSA created the HIV Quality Measures (HIVQM) Module as an online tool to assist recipients in meeting the clinical quality management program requirement by allowing recipients to input data for the HRSA performance measures. HRSA maintains over 40 performance measures across the following categories: (1) core, (2) all ages, (3) adolescent/adult, (4) pediatric HIV, (5) HIV-exposed children, (6) medical case management, (7) oral health, (8) AIDS Drug Assistance Program, and (9) systems-level. The HIVQM Module also supports the requirement imposed by the Uniform Administrative Requirements, Cost Principles, and Audit Requirements for HHS Awards that recipients relate financial data to performance accomplishments for their federal awards (2 CFR 200.301). The HIVQM Module helps recipients set goals and monitor performance measures and quality improvement projects. The use of the HIVQM Module is voluntary for RWHAP recipients. HRSA proposes the following modifications:

• “Gender” will be removed and replaced with “Sex at Birth.”

• The available response options are: “Male,” “Female,” “Unknown.”

A 60-day notice was published in the Federal Register on June 3, 2025, Volume 90, No. 105, pages 23532-33. There was one request for clarification about the nature of the revisions in the collection. Therefore, the 30-day FRN has language explaining the changes to the collection.

Need and Proposed Use of the Information: The HIVQM Module supports recipients and subrecipients in their clinical quality management programs, performance measurement, service delivery, and monitoring of client health outcomes and quality of HIV services. The HIVQM Module is accessible via the RWHAP Services Report, an existing online portal that RWHAP recipients use for required data collection of their services. Recipients may enter performance measure data into the HIVQM Module four times a year and then generate reports to assess their performance. Recipients have the option to enter data for specific populations for a subset of performance measures. Recipients may also compare their performance to other recipients in their state, region, and in the nation. Additionally, recipients can choose the performance measures they want to monitor and enter data accordingly. For recipients and sub-recipients participating in the Centers for Medicare & Medicaid Incentive Programs, such as the Medicare Promoting Interoperability Program and the Merit-based Incentive Payment System, the HIVQM Module may be used to monitor the HRSA measures that qualify and comply with the requirements to receive incentives from these programs.

Likely Respondents: RWHAP Part A, Part B, Part C, and Part D recipients and their sub-recipients.

Burden Statement: Burden in this context means the time expended by persons to generate, maintain, retain, disclose, or provide the information requested. This includes the time needed to review instructions; to develop, acquire, install, and use technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

The average burden per response declined from 1 hour to 0.2333 hours (approximately 14 minutes) based on pilot testing of the HIVQM Module.

Total Estimated Annualized Burden Hours
Form name | Number of respondents | Number of responses per respondent | Total responses | Average burden per response (in hours) | Total burden hours
HIVQM Report | 2,063 | 4 | 8,252 | 0.2333 | 1,925
Total | 2,063 |  | 8,252 |  | 1,925

Maria G. Button,
Director, Executive Secretariat.

[FR Doc. 2025-20302 Filed 11-18-25; 8:45 am]

BILLING CODE 4165-15-P